DEPARTMENT OF TRANSPORTATION

Maritime Administration

[Docket No. DOT-MARAD-2019-0163]

Request for Comments of a New Information Collection

AGENCY: Maritime Administration, Department of Transportation.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on July 9, 2019.

DATES: Comments must be submitted on or before November 14, 2019.

ADDRESSES: Send comments regarding the burden estimate, including suggestions for reducing the burden, to the Office of Management and Budget, Attention: Desk Officer for the Office of the Secretary of Transportation, 725 17th Street NW, Washington, DC 20503.

FOR FURTHER INFORMATION CONTACT: Thanos Perlegas, Telephone Number: (202) 366-0772, Office of Federal Sealift, Division of Sealift Operations and Emergency Response, Maritime Administration, U.S. Department of Transportation, 1200 New Jersey Avenue SE, Washington, DC 20590.

SUPPLEMENTARY INFORMATION:

Title: MARAD Exercise Breakout Survey.

OMB Control Number: 2133-New.

Type of Request: Approval of a new information collection.

Background: This is a survey conducted on a voluntary basis that provides vital information to the Ready Reserve Force Program. The survey follows MARAD's Exercise Breakout which was intended to test MARAD's internal administrative procedures, as well as the coordination necessary for a complete activation of MARAD's Ready Reserve Force (RRF) and the Military Sealift Command (MSC) Surge Sealift Fleet to meet strategic sealift requirements. Periodic testing is necessary in view of the dynamics that affect the RRF program, which include changes in RRF fleet composition, readiness status, ship location as well as changes to the seafaring manpower base. This information collection will provide MARAD with insights and experience of those involved in the RRF exercise and as a result supports the DOT Strategic Goal of providing for the National Security of the country by providing surge sealift capabilities.

Respondents: Merchant Mariners who were included in the EXERCISE BREAKOUT 2019.

Affected Public: Business or other for profit.

Total Estimated Number of Responses: 200.

Frequency of Collection: One time.

Estimated Time per Respondent: .05 hours.

Total Estimated Number of Annual Burden Hours: 10.

Public Comments Invited: Comments are invited on whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. Chapter 35, as amended; 49 CFR 1.93.

* * *

Dated: October 8, 2019.
By Order of the Maritime Administrator.
T. Mitchell Hudson, Jr.
Secretary, Maritime Administration.

[FR Doc. 2019-22346 Filed 10-11-19; 8:45 am]

BILLING CODE 4910-81-P